DEPARTMENT OF TRANSPORTATION

Federal Highway Administration

Draft Environmental Impact Statement; Summit County, Colorado

AGENCY: Federal Highway Administration (FHWA), DOT.

ACTION: Notice of availability.

SUMMARY: In compliance with the National Environmental Policy Act of 1969, the FHWA, in cooperation with the Colorado Department of Transportation (CDOT), have prepared a Draft Environmental Impact Statement (EIS) for proposed transportation improvements to State Highway 9, Frisco to Breckenridge in Summit County, Colorado. The Draft EIS identifies the Four Build Alternatives and No-Action Alternative and their associated environmental impacts. Interested citizens are invited to review the Draft EIS and submit comments. Copies of the Draft EIS may be obtained by telephoning or writing the contact person listed below under Addresses. Public reading copies of the Draft EIS are available at the locations listed under Supplementary Information.

DATES: A 45-calendar-day public review period will begin on May 31, 2002, and conclude on July 15, 2002. Written comments on the alternatives and impacts to be considered must be received by CDOT by July 15, 2002. A public hearing to receive oral comments on the Draft EIS will be held at the Summit High School on June 19, 2002.

ADDRESSES: Written comments on the Draft EIS should be addressed to Lisa Kassels, Project Manager, Colorado Department of Transportation, Region 1, 18500 East Colfax Avenue, Aurora, CO 80011. Requests for a copy of the Draft EIS may be addressed to Lisa Kassels at the address above. Please see Supplementary Information section for a listing of available documents and formats in which they may be obtained. Copies of the Draft EIS are also available for public inspection and review. See Supplementary Information section for locations.

FOR FURTHER INFORMATION CONTACT: To request copies of the Draft EIS or for additional information, contact: Mr. Scott Sands, FHWA, Colorado Division, 555 Zang Street, Room 250, Lakewood, CO, 80228, Telephone: (303) 969-6730 extension 362; or Lisa Kassels, Colorado Department of Transportation, Region 1, 18500 East Colfax Avenue, Aurora, CO 80011, Telephone: (303) 757-9156.

SUPPLEMENTARY INFORMATION:

Hearing Date and Location

Wednesday, June 19, 2002, 4:00 p.m. to 6:30 p.m. at Summit High School.

Copies of the Draft EIS are available in hard copy format for public inspection at:

• CDOT Headquarters, Public Information Offices, 4201 Arkansas St., Room 277, Denver, CO 80222, 303-757-9228

• CDOT Region 1, 18500 E Colfax Avenue, Aurora, CO 80011, 303-757-9371

• CDOT Office of Environmental Programs, 1325 South Colorado Boulevard, Suite B400, Denver, CO 80222, 303-757-9259

• Summit County Engineering Department, 37 County Rd. 1005, Frisco, CO 80443, 970-668-4200

• Town of Breckinridge Engineering Department, 150 Ski Hill Rd., Breckenridge, CO 80424, 970-547-3191

• Town of Frisco Town Clerk, 1 Main St. Frisco, CO 80443, 970-668-5276

• Summit County Library—Frisco Branch, 37 County Rd. 1005, Frisco, CO 80443 970-668-5555

• Summit County Library—Breckenridge Branch, 504 Airport Rd., Breckenridge, CO 80424, 970-453-6098

• CDOT Mountain Residency Office, west side of Eisenhower Tunnel at I-70, Silverthorne, CO 80498, 303-512-5750

• Federal Highway Administration, Colorado Division Office, 555 Zang Street, Room 250, Lakewood, CO 80228, 303-969-6730 extension 362

Background

This Draft EIS provides a detailed evaluation of the proposed transportation improvements for SH 9 between Breckenridge and Frisco. The study area lies within Summit County, Colorado. The study area extends approximately 14.5 kilometers (9 miles) from the northern end of Frisco at approximate milespost 97 to the southern limit of Breakenridge at approximate milepost 85. This Draft EIS includes an examination of the purpose and need, alternatives under consideration, travel demand, affected environment, environmental consequences, and mitigation measures as a result of the improvements under consideration. Four build alternatives and a No-Action Alternative are presented in the Draft EIS and are under consideration by FHWA and CDOT.

The FHWA, CDOT, and other local agencies invite interested individuals, organizations, and Federal, State, and local agencies to comment on the evaluated alternatives and associated social, economic, or environmental impacts related to the alternatives.

Issued on: May 17, 2002.
Douglas Bennett,
Assistant Division Administrator, Federal Highway Administration, Lakewood, Colorado.

[FR Doc. 02-12776 Filed 5-30-02; 8:45 am]

BILLING CODE 4910-22-M